DEPARTMENT OF TRANSPORTATION

Federal Aviation Administration

Notice before Waiver With Respect to Land at Richmond International Airport, Richmond, Virginia

AGENCY: Federal Aviation Administration (FAA), DOT.

ACTION: Notice of intent of waiver with respect to land.

SUMMARY: The FAA is publishing notice of proposed release of 1.318 acres of land at the Richmond International Airport, Richmond, Virginia to the Henrico County for construction of the widening of Charles City Road. An additional 0.622 Acres will be permanently utilized by Henrico County within utility, and drainage easements. There are no adverse impacts to the Airport and the land is not needed for airport development as shown on the Airport Layout Plan. Fair Market Value of the land has been established. The Airport will benefit from the improvements to Charles City Road with the more efficient intersection at Airport Drive. The east and west bound through lanes and dedicated right and left turn lanes will provide a more efficient entry to the Airport. These intangible benefits will offset the value of the released property.

DATES: Comments must be received on or before June 23, 2014.

ADDRESSES: Comments on this application may be mailed or delivered to the FAA at the following address: Terry J. Page, Manager, FAA Washington Airports District Office, 23723 Air Freight Lane, Suite 210, Dulles, VA 20166.

In addition, one copy of any comments submitted to the FAA must be mailed or delivered to Jon E. Mathiasen, President & CEO, Capital Region Airport Commission, at the following address: Jon E. Mathiasen, President & CEO, Capital Region Airport Commission, 1 Richard E. Byrd Terminal Drive, Richmond International Airport, VA 23250.

FOR FURTHER INFORMATION CONTACT: Mr. Terry Page, Manager, Washington Airports District Office, 23723 Air Freight Lane, Suite 210, Dulles, VA 20166; telephone (703) 661-1354, fax (703) 661-1370, email Terry.Page@faa.gov.

SUPPLEMENTARY INFORMATION: The Wendell H. Ford Aviation investment and Reform Act for the 21st Century, public Law 10-181 (Apr. 5, 2000; 114 Stat. 61) (AIR 21), as amended, requires that a 30 day public notice must be provided before the Secretary may waive any condition imposed on an interest in surplus property.

Issued in Dulles, Virginia on May 16, 2014.
Terry J. Page,
Manager, Washington Airports District Office, Eastern Region.

[FR Doc. 2014-11982 Filed 5-22-14; 8:45 am]

BILLING CODE 4910-13-P